DEPARTMENT OF LABOR

Employment and Training Administration

[TA-W-37,633] and [NAFTA-3944]

The Holmes Group, Rival Division, Warrensburg, Missouri; Negative Determination Regarding Application for Reconsideration

By application dated July 20, 2000, petitioners request administrative reconsideration of the Department's negative determination regarding eligibility to apply for Trade Adjustment Assistance (TAA) petition number TA-W-37,633, and North American Free Trade Agreement-Transitional Adjustment Assistance (NAFTA-TAA) petition number NAFTA-3944, applicable to workers and former workers of The Holmes Group, Rival Division, Warrensburg, Missouri. The denial notices were signed on June 29, 2000, and published in the Federal Register on July 24, 2000, TA-W-37,633 (65 FR 45620) and NAFTA-3944 (65 FR 45621).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

To support the application for reconsideration, the petitioners provided documents related to planned production and budgeted hours for the Warrensburg plant for 1999, and parts and sub-assemblies that went overseas. The petitioner also states that the subject firm stopped parts production within the last year.

Planned production by the subject firm is not a basis for worker group certification under the Trade Act of 1974, as amended. The Department is required to examine sales or production of articles produced by workers of the firm for the time period relevant to the investigation.

During all of 1999 and the early part of 2000, output at the plant was primarily comprised of industrial fans and heaters. Although the company relied on imports of heater components, no worker separations occurred as the result of the company imports. Employees formerly producing components were transferred within the plant to assemble finished heaters. Ultimately, the assembly operations were moved from Warrensburg, Missouri, to other domestic facilities of The Holmes Group.

The workers were denied eligibility to apply for TAA based on the finding that the contributed importantly criterion of the workers group eligibility requirements of Section 222 of the Trade Act of 1974, as amended, was not met. Layoffs of workers producing heaters at the subject firm were attributable to the company's decision to transfer production to other domestic facilities.

The NAFTA-TAA petition investigation for the same worker group revealed that criteria (3) and (4) of paragraph (a)(1) of Section 250 of the Trade Act of 1974, as amended, were not met. The subject firm did not import from Mexico or Canada, articles like or directly competitive with those produced by workers of the firm. There was no shift in production from the Warrensburg plant to Mexico or Canada.

Conclusion

After review of the application and investigative findings, I conclude that there has been no error or misinterpretation of the law or of the facts which would justify reconsideration of the Department of Labor's prior decision. Accordingly, the application is denied.

Signed at Washington, DC this 14th day of August 2000.
Grant D. Beale,
Program Manager, Division of Trade Adjustment Assistance.

[FR Doc. 00-21730 Filed 8-24-00; 8:45 am]

BILLING CODE 4510-30-M